DEPARTMENT OF HEALTH AND HUMAN SERVICES

Centers for Disease Control and Prevention

[30Day-08-07BR]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

National Survey of Residential Care Facilities (NSRCF) 2008-2010—New—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States.

The National Survey of Residential Care Facilities (NSRCF) is a new collection. It is designed to complement data collected by other federal surveys and to fill a significant data gap about a major portion of the long-term care population. Data from the NSRCF will provide a database on residential care facilities that researchers and policymakers can use to address a wide array of research and policy questions. The survey will utilize a computer-assisted personal interviewing (CAPI) system to collect information about facility and resident characteristics. This computerized system speeds the flow of data making it possible to release information on a more timely basis and makes it easier for respondents to participate in the survey.

A stratified random sample of residential care facilities across four strata (small, medium, large and extra large) will be selected to participate in the NSRCF. Within each facility a random sample of residents will be selected. To be eligible a facility must have four or more beds, be licensed, certified, or registered and provide or arrange for 24 hour supervision and personal care services for residents.

The facility questionnaire will collect data about facility characteristics (size, age, types of rooms), services offered, characteristics of the resident population, facility policies and services, costs of services, and background of the administrator. The Resident Questionnaire collects information on resident demographics, current living arrangements within the facility, involvement in activities, use of services, charges for care, health status, and cognitive and physical functioning.

In the pretest 25 facility administrators, and 25 facility staff serving as respondents will be interviewed on an annualized basis, for a total of 75 facilities. Residents themselves will not be interviewed. For the national survey, approximately 2,250 facilities will be surveyed for an annual average of 750. Information on an average of 5 residents each will be collected.

Anticipated users of NSRCF data include, but are not limited to the CDC; the Congressional Research Office; the Bureau of Health Professions, Health Resources and Services Administration; the Office of the Assistant Secretary for Planning and Evaluation (ASPE); the Agency for Healthcare Research and Quality; the American Association of Homes and Services for the Aging; the National Hospice and Palliative Care Organization; American Health Care Association, Centers for Medicare and Medicaid Services (CMS), Bureau of the Census; and AARP. Other users of these data include universities, contract research organizations, many in the private sector, foundations, and a variety of users in the print media. There is no cost to respondents other than their time to participate. The total estimated annualized burden hours are 2,778.

Estimated Annualized Burden Hours
Type of respondent | Number of respondents | Number of responses per respondent | Average burden per response (in hours)
Pretest
Facility Administrator (Facility Screener) | 25 | 1 | 10/60
Facility Administrator (Advance Data Collection Form) | 25 | 1 | 15/60
Facility Administrator (Facility Questionnaire) | 25 | 1 | 40/60
Facility Staff (Resident Questionnaire) | 25 | 5 | 30/60
National Survey
Facility Administrator (Facility Screener) | 750 | 1 | 10/60
Facility Administrator (Advance Data Collection Form) | 750 | 1 | 15/60
Facility Administrator (Facility Questionnaire) | 750 | 1 | 40/60
Facility Staff (Resident Questionnaire) | 750 | 5 | 30/60

Dated: January 16, 2008.
Maryam I. Daneshvar,
Acting Reports Clearance Officer, Centers for Disease Control and Prevention.

[FR Doc. E8-1260 Filed 1-24-08; 8:45 am]

BILLING CODE 4163-18-P